ENVIRONMENTAL PROTECTION AGENCY

[FRL-9970-13-OW]

Information Session; Implementation of the Water Infrastructure Finance and Innovation Act of 2014

AGENCY: Environmental Protection Agency (EPA).

ACTION: Notice.

SUMMARY: The Environmental Protection Agency (EPA) is announcing plans to hold information sessions on: November 8, 2017 in Denver, Colorado; November 16, 2017 in Nashville, Tennessee; and November 29, 2017 in Lenexa, Kansas. In addition, EPA will host a series of webinars covering the same topics on December 6, 13, and 20, 2017. The purpose of both the sessions and webinars is to provide prospective borrowers with a better understanding of the Water Infrastructure Finance and Innovation Act (WIFIA) program requirements and application process.

Under WIFIA, EPA can provide long-term, low-cost supplemental loans and loan guarantees for regionally and nationally significant water infrastructure projects. During each information session, EPA will provide an overview of the program's statutory and eligibility requirements, application and selection process, and creditworthiness assessment. It will also explain the financial benefits of WIFIA credit assistance and provide tips for completing the application materials. The intended audience is prospective borrowers including municipal entities, corporations, partnerships, and State Revolving Fund programs, as well as the private and non-governmental organizations that support prospective borrowers.

DATES: The session in Denver, Colorado will be held on November 8, 2017 from 9:00 a.m.-3:00 p.m. (MT). The session in Nashville, Tennessee will be held on November 16, 2017 from 9:00 a.m.-3:00 p.m. (CT). The session in Lenexa, Kansas will be held on November 29, 2017 from 9:00 a.m.-3:00 p.m. (CT).

ADDRESSES: The session in Denver will be held at: US EPA Region 8 Headquarters, 1595 Wynkoop Street, Denver, Colorado 80202. The session in Nashville will be held at: William R. Snodgrass—Tennessee Tower, 312 Rosa L. Parks Avenue, Conference Center North, 3rd Floor, Room D, Nashville, Tennessee 37243. The session in Lenexa will be held at: EPA Region 7 Headquarters, 11201 Renner Boulevard, Lenexa, Kansas 66219.

Webinar Dates: The webinar “Overview of the WIFIA program” will be held on December 6, 2017 from 2:00-3:30 ET. The webinar “Benefits of Financing with WIFIA Loans” will be held on December 13, 2017 from 2:00-3:30 ET. The webinar “WIFIA Application Process: Tips for Submitting a Letter of Interest” will be held December 20, 2017, 2:00-3:30 ET.

To Register: Registration information for both the information sessions and the webinars is available at https://www.epa.gov/wifia.

FOR FURTHER INFORMATION CONTACT: For further information about this notice, including registration information, contact Karen Fligger, EPA Headquarters, Office of Water, Office of Wastewater Management at tel.: 202-564-2992; or email: WIFIA@epa.gov. Members of the public are invited to participate in the session as capacity allows.

Authority: Water Infrastructure Finance and Innovation Act, 33 U.S.C. 3901 et. seq.

Dated: October 18, 2017.
Andrew D. Sawyers,
Director, Office of Wastewater Management.

[FR Doc. 2017-23567 Filed 10-30-17; 8:45 am]

BILLING CODE 6560-50-P